SECURITIES AND EXCHANGE COMMISSION

Sunshine Act Meeting

Notice is hereby given, pursuant to the provisions of the Government in the Sunshine Act, Public Law 94-409, that the Securities and Exchange Commission will hold a cybersecurity roundtable on March 26, 2014 from 9:30 a.m. to 3:00 p.m.

Roundtable panelists will discuss the cybersecurity landscape and cybersecurity issues faced by exchanges and other key market systems, broker-dealers, investment advisers, transfer agents, and public companies. Panelists also will be invited to discuss industry and public-private sector coordination efforts relating to assessing and responding to cybersecurity issues.

The roundtable discussion will be held at SEC headquarters at 100 F Street NE., in Washington, DC. The roundtable will be webcast on the Commission's Web site at www.sec.gov and will be archived for later viewing. Seating for the public will be available.

For further information, please contact: The Office of the Secretary at (202) 551-5400.

Dated: March 19, 2014.
Kevin M. O'Neill,
Deputy Secretary.

[FR Doc. 2014-06467 Filed 3-20-14; 11:15 am]

BILLING CODE 8011-01-P